FEDERAL COMMUNICATIONS COMMISSION

Public Information Collections Approved by Office of Management and Budget

August 1, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Zenji Nakazawa, Federal Communications Commission, 445 12th Street, SW., Washington, DC 20554, (202) 418-0600 or via the Internet at Zenji.Nakazawa@fcc.gov.

SUPPLEMENTARY INFORMATION: OMB Control No.: 3060-0783.

OMB Approval date: January 31, 2006.

Expiration Date: January 31, 2009.

Title: Section 90.176, Coordinator notification requirements on frequencies below 512 MHz or at 764-776/794-806 MHz.

Form No.: N/A.

Estimated Annual Burden: 3,900 responses; 1,950 total annual burden hours; .50 hours average per respondent.

Needs and Uses: Section 90.176 requires each Private Land Mobile frequency coordinator to provide, within one business day, a listing of their frequency recommendations to all other frequency coordinators in their respective pool, and, if requested, an engineering analysis. Any method can be used to ensure this compliance with the “one business day requirement” and must provide, at a minimum, the name of the applicant; frequency or frequencies recommended; antenna locations and heights; the effective radiated power; the type(s) of emission; the description of the service area; and the date and time of the recommendation. If a conflict in recommendations arises, the affected coordinators are jointly responsible for taking action to resolve the conflict, up to and including notifying the Commission that an application may have to be returned.

Federal Communications Commission.
Jacqueline R. Coles,
Associate Secretary.

[FR Doc. E6-12993 Filed 8-8-06; 8:45 am]

BILLING CODE 6712-01-P